DEPARTMENT OF THE INTERIOR

Bureau of Land Management

[LLCAC01000.223L1109AF.L13100000.DF00000 MO#4500160418]

Notice of Public Meetings of the Central California Resource Advisory Council

AGENCY: Bureau of Land Management, Interior.

ACTION: Notice of public meetings.

SUMMARY: In accordance with the Federal Land Policy and Management Act and the Federal Advisory Committee Act, the U.S. Department of the Interior, Bureau of Land Management's (BLM) Central California Resource Advisory Council (RAC) will meet as follows.

DATES: The RAC will hold a virtual public meeting via Zoom on Wednesday, June 22, 2022, from 8:30 a.m. to 12:30 p.m. with public comments accepted at 12 p.m.

The RAC will hold a virtual public meeting via Zoom on Wednesday, Sept. 14, 2022, from 8:30 a.m. to 12:30 p.m., with public comments accepted at 12 p.m.

The RAC will hold both a virtual and in-person public meeting on Wednesday, Nov. 2, 2022, from 1 p.m. to 5 p.m. at the BLM Bishop Field Office with public comments accepted at 4:30 p.m. The RAC will conduct a field tour on Thursday, Nov. 3, 2022, from 8:30 a.m. to 12:30 p.m. to the Alabama Hills National Scenic Area.

The RAC will hold both a virtual and in-person public meeting on Wednesday, Feb. 22, 2023, from 1 p.m. to 5 p.m., at the BLM Ukiah Field Office with public comments accepted at 4:30 p.m. The RAC will conduct a field tour on Thursday, Feb. 23, 2023, from 8:30 a.m. to 12:30 p.m. to the South Cow Mountain OHV Management Area.

The meetings and field tours are open to the public.

ADDRESSES: Meeting links and participation instructions will be made available to the public via news media, social media, the BLM California RAC web page at https://go.usa.gov/xH9ya, and through personal contact 2 weeks prior to the meeting.

• The June 22 meeting will be held virtually via Zoom.

• The Sept. 14 meeting will be held virtually via Zoom.

• The Nov. 2 meeting will be held virtually and at the BLM Bishop Field Office, 351 Pacu Lane, Suite 100, Bishop, CA 93514. On Nov. 3, participants will meet at the BLM Bishop Field Office for a field tour to the Alabama Hills National Scenic Area.

• The Feb. 22, 2023, meeting will be virtually and held at the BLM Ukiah Field Office, 2550 North State Street, Suite 2, Ukiah, CA 95482. On Feb. 23, participants will meet at the BLM Ukiah Field Office for a field tour to the South Cow Mountain OHV Management Area.

You may send written comments pertaining to any of the meetings to the BLM Central California District Office, 5152 Hillsdale Circle, El Dorado Hills, CA 95762, Attention: RAC meeting comments, or email comments can be submitted to Public Affairs Officer Serena Baker, sbaker@blm.gov.

FOR FURTHER INFORMATION CONTACT: Public Affairs Officer Serena Baker, email: sbaker@blm.gov or telephone: (916) 941-3146. Individuals in the United States who are deaf, deafblind, hard of hearing, or have a speech disability may dial 711 (TTY, TDD, or TeleBraille) to access telecommunications relay services for contacting Ms. Baker. Individuals outside the United States should use the relay services offered within their country to make international calls to the point-of-contact in the United States.

SUPPLEMENTARY INFORMATION: The Central California RAC advises the Secretary of the Interior, through the BLM, on a variety of planning and management issues associated with BLM-managed public lands in central California. Topics for these meetings are as follows:

June 22, 2022: The RAC will hear about the Recreation Area Management Plan anticipated to be developed for the Keysville Special Recreation Management Area and determine how it will participate in the process. The RAC will also be briefed on the impacts on BLM-managed public lands due to increased outdoor recreation during the pandemic, and hear reports from the district and field offices, including a wildland fire pre-season forecast.

Sept. 14, 2022: The RAC will be briefed on business plans being developed with potential fee increases at BLM-managed recreation sites within the jurisdictions of the Mother Lode and Central Coast field offices, which would require recommendations from the RAC. The RAC will also hear reports from the district and field offices.

November 2 and 3, 2022: On November 2, the RAC will discuss implementation of the Alabama Hills Management Plan. The RAC will also learn about the Casa Diablo IV Geothermal Development Project, hear reports from the district and field offices, including a post-season wildland fire assessment, and schedule additional meeting dates for 2023. On November 3, the RAC will tour the Alabama Hills National Scenic Area to see the improvements made under the Management Plan, including new signs indicating areas that are now day use only; added portable restrooms in two locations; and designated campsites in some areas.

February 22 and 23, 2023: On February 22, the RAC will be briefed on the progress of the South Cow Mountain OHV Management Area Implementation Plan and determine how it will participate in the planning process. The RAC will hear an update on the BLM Trails and Travel Management Plan for the Berryessa Snow Mountain National Monument and hear reports from the district and field offices. On February 23, 2023, the RAC will tour the South Cow Mountain OHV Management Area to view conditions and opportunities for improving off-highway vehicle facilities at the South Cow Mountain OHV Management Area.

All meetings are open to the public. Each RAC meeting has time allocated for public comments. Depending on the number of persons wishing to speak and the time available, the amount of time for oral comments may be limited. Written public comments may be sent to the BLM Central California District Office listed in the ADDRESSES section of this notice. All comments received at least 1 week in advance of the meeting will be provided to the RAC.

Public Disclosure of Comments: Before including your address, phone number, email address, or other personal identifying information in your comment, you should be aware that your entire comment—including your personal identifying information—may be made publicly available at any time. While you can ask us in your comment to withhold your personal identifying information from public review, we cannot guarantee that we will be able to do so.

Members of the public are welcome on field tours but must provide their own transportation and meals. Individuals who plan to attend and need special assistance, such as sign language interpretation and other reasonable accommodations, should contact the BLM (see FOR FURTHER INFORMATION CONTACT) at least 2 weeks in advance of the field tours. In-person meetings and the field tours will follow current Centers for Disease Control COVID-19 guidance regarding social distancing and wearing of masks.

Detailed minutes for the RAC meetings will be maintained in the BLM Central California District Office. Minutes will also be posted to the BLM California RAC web page at https://go.usa.gov/xH9ya.

(Authority: 43 CFR 1784.4-2)

Christopher M. Heppe,
District Manager, Central Coast District.

[FR Doc. 2022-08048 Filed 4-13-22; 8:45 am]

BILLING CODE 4310-40-P